DEPARTMENT OF LABOR

Scientific Integrity: Statement of Policy

AGENCY: Office of the Secretary, Labor.

ACTION: Extension of Comment Period.

SUMMARY: The Department of Labor (DOL) is extending the time period for receipt of comments in response to its solicitation of comments on its draft Scientific Integrity Policy, originally published April 17, 2012.

FOR FURTHER INFORMATION CONTACT: E. Christi Cunningham, Associate Assistant Secretary for Regulatory Policy, U.S. Department of Labor, 200 Constitution Avenue NW., Room S-2312, Washington, DC 20210, cunningham.christi@dol.gov, (202) 693-5959; (this is not a toll-free number). Individuals with hearing impairments may call 1-800-877-8339 (TTY/TDD).

SUPPLEMENTARY INFORMATION: On April 17, 2012, DOL published a notice in the Federal Register requesting comments on its draft Scientific Integrity Policy with a deadline for receiving comments of May 11, 2012. (See Federal Register Volume 77, Number 74, Pages 22805-22806.) Today, the Department is extending the date for receipt of comments to May 18, 2012. DOL is developing its policy on Scientific Integrity in response to the March 9, 2009, Presidential Memorandum on Scientific Integrity, and the December 17, 2010, Memorandum from the Director of the Office of Science and Technology Policy. DOL is soliciting comments on its draft policy using an Internet portal specifically designed to capture your input and suggestions, http://dolscientificintegrity.ideascale.com/. This portal contains a series of questions designed to gather information on how DOL can best meet the requirements of these memoranda. The ability to comment using the portal has remained uninterrupted since it was first made available for use.

The Department of Labor is issuing this request solely to seek useful information as it develops its policy. While responses to this request do not bind the Department of Labor to any further actions related to the responses, all submissions will be made available to the public for inspection on http://dolscientificintegrity.ideascale.com/.

DATES: Comments must be received by midnight May 18, 2012.

ADDRESSES: You may submit comments through http://dolscientificintegrity.ideascale.com/.

E. Christi Cunningham,
Associate Assistant Secretary for Regulatory Affairs.

[FR Doc. 2012-11996 Filed 5-16-12; 8:45 am]

BILLING CODE 4510-22-P